DEPARTMENT OF ENERGY

10 CFR Part 430

[EERE-2017-BT-STD-0014]

RIN 1904-AD98

Energy Conservation Program: Energy Conservation Standards for Residential Clothes Washers; Extension of Public Comment Period

AGENCY: Office of Energy Efficiency and Renewable Energy, Department of Energy.

ACTION: Notice of proposed rulemaking; extension of public comment period.

SUMMARY: On March 3, 2023, the U.S. Department of Energy (“DOE”) published a notice of proposed rulemaking (“NOPR”) and announcement of public meeting proposing amended energy conservation standards for residential clothes washers (“RCWs”) and announcing a public meeting to receive comment on the proposed standards and associated analyses and results. (“March 2023 NOPR”) The notice provided an opportunity for submitting written comments, data, and information by May 2, 2023. On April 15, 2023, DOE received a request from the Association of Home Appliance Manufacturers (“AHAM”) to extend the written comment period. DOE has reviewed this request and is granting a 15-day extension of the public comment period to allow comments to be submitted until May 17, 2023.

DATES: The comment period for the NOPR published on March 3, 2023 (88 FR 13520) is extended. Written comments and information regarding the NOPR will be accepted on or before May 17, 2023.

ADDRESSES: Interested persons are encouraged to submit comments using the Federal eRulemaking Portal at www.regulations.gov under docket number EERE-2017-BT-STD-0014. Follow the instructions for submitting comments. Alternatively, interested persons may submit comments, identified by docket number EERE-2017-BT-STD-0014, by any of the following methods:

Email: ConsumerClothesWasher2017STD0014@ee.doe.gov. Include the docket number EERE-2017-BT-STD-0014 in the subject line of the message.

Postal Mail: Appliance and Equipment Standards Program, U.S. Department of Energy, Building Technologies Office, Mailstop EE-5B, 1000 Independence Avenue SW, Washington, DC 20585-0121. If possible, please submit all items on a compact disc (“CD”), in which case it is not necessary to include printed copies.

Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimiles (“faxes”) will be accepted.

Docket: The docket for this activity, which includes Federal Register notices, public meeting attendee lists and transcripts (if a public meeting is held), comments, and other supporting documents/materials, is available for review at www.regulations.gov. All documents in the docket are listed in the www.regulations.gov index. However, not all documents listed in the index may be publicly available, such as information that is exempt from public disclosure.

The docket web page can be found at www.regulations.gov/docket/EERE-2017-BT-STD-0014. The docket web page contains instructions on how to access all documents, including public comments, in the docket.

FOR FURTHER INFORMATION CONTACT:

Dr. Carl Shapiro, U.S. Department of Energy, Office of Energy Efficiency and Renewable Energy, Building Technologies Office, Mailstop EE-5B, 1000 Independence Avenue SW, Washington, DC 20585-0121. Telephone: (202) 287-5649. Email: ApplianceStandardsQuestions@ee.doe.gov.

Ms. Melanie Lampton, U.S. Department of Energy, Office of the General Counsel, Mail Stop GC-33, Forrestal Building, 1000 Independence Avenue SW, Washington, DC 20585-0103. Telephone: (240) 751-5157. Email: Melanie.Lampton@hq.doe.gov.

For further information on how to submit a comment, review other public comments and the docket, or participate in the public meeting, contact the Appliance and Equipment Standards Program staff at (202) 287-1445 or by email: ApplianceStandardsQuestions@ee.doe.gov.

SUPPLEMENTARY INFORMATION: On September 29, 2021, DOE published a notification of the availability of a preliminary technical support document for RCWs (“September 2021 Preliminary Analysis”). 86 FR 53886. In that notification, DOE sought comment on the analytical framework, models, and tools that DOE used to evaluate potential standards for RCWs. Id. On October 29, 2021, DOE extended the comment period for the September 2021 Preliminary Analysis by an additional 45 days. 86 FR 59889. DOE subsequently published a notification of data availability (“NODA”) on April 13, 2022, presenting the results of additional testing conducted in furtherance of the development of the translations between the current test procedure and the proposed new test procedure. 87 FR 21816 (“April 2022 NODA”). On May 19, 2022, DOE reopened the comment period for the April 2022 NODA and provided additional information in response to stakeholder questions. 87 FR 30433. On March 3, 2023, the DOE published a NOPR proposing amended energy conservation standards for residential clothes washers. 88 FR 13520. The March 2023 NOPR announced a public meeting to receive comment on the proposed standards and provided for the written submission of comments by May 2, 2023. Id.

On April 15, 2023, DOE received a request from AHAM to extend the written comment period on the March 2023 NOPR by 20 days. AHAM stated that it was reviewing DOE's responses to other stakeholders' comments, including comments requesting that DOE consider an equation-based approach for energy conservation standards. AHAM noted that while DOE did not propose such an approach, DOE indicated a willingness to consider it, and AHAM requires additional time to review and analyze how such an approach could work and provide DOE with substantive feedback. (AHAM, No. 89).

In response to the September 2021 Preliminary Analysis, the California investor-owned utilities (“CA IOUs”) stated that they were supportive of an equation-based metric that can account for the efficiency differences related to capacity. (CA IOUs, No. 43 at pp. 3-4). In the March 2023 NOPR, DOE did not propose equation-based standards, but noted that given the close relationship between efficiency and capacity, DOE continues to consider whether to specify an equation-based standard for the top-loading standard-size product class. 88 FR 13540.

DOE has reviewed the request and considered the benefit of allowing interested parties additional time to submit comments regarding the March 2023 NOPR, including feedback on an equation-based approach for energy conservation standards, for DOE's consideration. Accordingly, DOE has determined that an extension of the public comment period is appropriate, and is hereby extending the comment period by 15 days, until May 17, 2023.

Signing Authority

This document of the Department of Energy was signed on April 25, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 25, 2023.
Treena V. Garrett,
Federal Register Liaison Officer, U.S. Department of Energy.

[FR Doc. 2023-09019 Filed 4-28-23; 8:45 am]

BILLING CODE 6450-01-P